DEPARTMENT OF DEFENSE

Office of the Secretary

Reserve Forces Policy Board (RFPB); Member Solicitation

AGENCY: Office of the Secretary of Defense Reserve Forces Policy Board, Department of Defense.

ACTION: Notice of Advisory Committee Member Solicitation.

SUMMARY: Pursuant to the Federal Advisory Committee Act of 1972 (5 U.S.C., Appendix, as amended), the Sunshine in the Government Act of 1976 (5 U.S.C. 552b, as amended), and 41 CFR 102-3.150, the Department of Defense announces the following Federal advisory committee member solicitation of the Reserve Forces Policy Board (RFPB).

FOR FURTHER INFORMATION CONTACT: LtCol Ken Olivo, Designated Federal Officer, (703) 697-4486 (Voice), (703) 693-5371 (Facsimile), RFPB@osd.mil. Mailing address is Reserve Forces Policy Board, 7300 Defense Pentagon, Washington, DC 20301-7300. Web site: http://ra.defense.gov/rfpb/.

SUPPLEMENTARY INFORMATION: As specified in Section 10301, Title 10, U.S. Code, the Reserve Forces Policy Board serves “as an independent adviser to the Secretary of Defense to provide advice and recommendations to the Secretary of Defense on strategies, policies, and practices designed to improve and enhance the capabilities, efficiency, and effectiveness of the reserve components.” The Board consists of 20 members. This includes ten persons appointed or designated by the Secretary of Defense, each of whom must be a United States citizen having significant knowledge of and experience in policy matters relevant to national security and reserve component matters and must be one of the following pursuant to 10 U.S.C. 10301(c)(6):

“(A) An individual not employed in any Federal or State department or agency.

(B) An individual employed by a Federal or State department or agency.

(C) An officer of a regular component of the armed forces on active duty, or an officer of a reserve component of the armed forces in an active status, who—

(i) Is serving or has served in a senior position on the Joint Staff, the headquarters staff of a combatant command, or the headquarters staff of an armed force; and

(ii) has experience in joint professional military education, joint qualification, and joint operations matters.”

The vacancy to be filled on the Board is one of those ten positions.

The Federal Advisory Committee Act (FACA) of 1972 (5 U.S.C. Appendix, as amended) and the governing regulations (41 CFR 102-305 through 102-30175) provide the basis for and guidance concerning the management and operations of Federal advisory committees. Typically, advisory bodies subject to FACA require open, preannounced meetings; public access to discussions, deliberations, records and documents; opportunity for the public to provide, at a minimum, written comments; fairly balanced membership; and evaluation of conflicts of interests for certain members. Section 5(b)(2) of the FACA requires “* * * the membership of the advisory committee to be fairly balanced in terms of the points of view represented and the functions to be performed by the advisory committee.”

Forward Nominations for Membership: This notice is a solicitation to fill a vacancy on the board. To be considered for nomination please forward a biography of the nominee describing the professional background and qualifications meeting the above stated criteria. Submissions may be by email: RFPB@osd.mil, or by (703) 693-5371 (Facsimile-FAX) to the Reserve Forces Policy Board's Designated Federal Officer no later than the close of business Friday, January 27, 2012.

Note: Nominees must be U.S. citizens and cannot be registered federal lobbyists. Individuals appointed by the Secretary of Defense to serve on the Reserve Forces Policy Board will be appointed as experts and consultants under the authority of 5 U.S.C. 3109 to serve as special governmental employees and be required to comply with all Department of Defense ethics requirements, to include the filing of confidential financial disclosure statements. Nominees must hold or be able to qualify for a security clearance at the Secret level. In addition, those appointed will serve without compensation except for travel and per diem in conjunction with official Board business.

Dated: December 21, 2011.
Aaron Siegel,
Alternate OSD Federal Register Liaison Officer, Department of Defense.

[FR Doc. 2011-33070 Filed 12-23-11; 8:45 am]

BILLING CODE 5001-06-P